DEPARTMENT OF HOMELAND SECURITY

Federal Emergency Management Agency

Agency Information Collection Activities: Proposed Collection; Comment Request

AGENCY: Federal Emergency Management Agency, DHS.

ACTION: Notice and request for comments.

SUMMARY: The Federal Emergency Management Agency (FEMA), as part of its continuing effort to reduce paperwork and respondent burden, invites the general public and other Federal agencies to take this opportunity to comment on a proposed continuing information collection. In accordance with the Paperwork Reduction Act of 1995, this notice seeks comments concerning the adequacy of two forms FEMA uses to gather certain information about the floodplain management activities of communities that participate in the National Flood Insurance Program (NFIP). The Community Contact Report form and the Community Visit Report form are used to gather information about a community's floodplain management regulations, administrative and enforcement procedures, Flood Insurance Studies, and basic information pertaining to names, addresses, and phone numbers of individuals responsible for a community's floodplain management program.

SUPPLEMENTARY INFORMATION: The information gathered on the subject forms pertain to a community's participation in the NFIP. The NFIP was established by the National Flood Insurance Act of 1968 (the Act). Section 1315 of the Act requires the adoption of permanent land use and control measures which are consistent with the comprehensive criteria of land management and use under section 1361. 44 CFR 59.24 establishes requirements for continued eligibility to participate in the NFIP based upon implementing an adequate community based floodplain management program. The information gathered with the forms is used to evaluate the adequacy of a community's floodplain management program as it relates to continued participation in the NFIP.

Collection of Information

Title: Effectiveness of a Community's Implementation of the NFIP Community Assistance Program CAC and CAV Reports.

Type of Information Collection: Revision of Currently Approved Collection.

OMB Number: 1660-0023.

Form Numbers: Form 81-68 (Community Assistance Report); Form 81-69 (Community Contact Report).

Abstract: The data obtained from the Community Assistance Contact (CAC) and Community Assistance Visit (CAV) forms information collection effort is used to assist with the management of the NFIP. A major objective of the NFIP is to assure that participating communities are achieving the flood loss reduction objectives of the program. To achieve this objective, FEMA's Mitigation Division implemented a process to evaluate the floodplain management assistance needed by communities and how well communities are implementing their floodplain management programs. By determining the assistance needed and how well communities are performing their responsibilities, FEMA can identify, prevent, and resolve floodplain management issues before problems arise that require enforcement actions.

The two key methods FEMA uses in determining community assistance needs are through the CAC and CAV, which serve to provide a systematic means of monitoring community NFIP compliance. Through the CAC and CAV, FEMA can also determine to what extent communities are achieving the flood loss reduction objectives of the NFIP. By providing assistance to communities, the CAC and CAV also serve to enhance FEMA's goals of reducing future flood losses, thereby achieving the cost-containment objectives of the NFIP.

Affected Public: Federal, State, Local, or Tribal Government.

Estimated Total Annual Burden Hours: 168 hours.

Data collection activity/instrument | Nunber of respondents | Frequency of responses | Hour burden per response | Annual responses | Total annual hour burden
| (A) | (B) | (C) | (D) = (A×B) | (E) = (C×D)
FF 81-68 (CAV) | 56 | 1 | 2 | 56 | 112
FF 81-69 (CAC) | 56 | 1 | 1 | 56 | 56
Total | 56 | 1 |  | 56 | 168

Estimated Cost: $8,400.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before August 31, 2007.

Interested persons should submit written comments to Chief, Records Management and Privacy, Information Resources Management Branch, Information Technology Services Division, Federal Emergency Management Agency, 500 C Street, SW., Room 316, Washington, DC 20472.

FOR FURTHER INFORMATION CONTACT: Contact Rachel Sears, Program Specialist, at 202-646-2977 for additional information. You may contact the Records Management Branch for copies of the proposed collection of information at facsimile number (202) 646-3347 or e-mail address: FEMA-Information-Collections@dhs.gov.

Dated: June 27, 2007.
John A. Sharetts-Sullivan,
Chief, Records Management and Privacy Office of Management Directorate, Information Technology Services Division, Information Resources Management Branch, Federal Emergency Management Agency, Department of Homeland Security

[FR Doc. E7-12722 Filed 6-29-07; 8:45 am]

BILLING CODE 9110-12-P